COMMISSION ON CIVIL RIGHTS

Agenda and Notice of Public Meeting of the Nevada Advisory Committee

Notice is hereby given, pursuant to the provisions of the rules and regulations of the U.S. Commission on Civil Rights, that a meeting of the Nevada State Advisory Committee in the Western Region will convene at 9 a.m. and adjourn at 5 p.m. on Thursday, May 4, 2006, at the Rio All-Suite Hotel, 3700 West Flamingo Road (Lily Room), Las Vegas, Nevada 89103. The purpose of the meeting is to discuss civil rights issues in the state and plan future activities.

Persons desiring additional information, or planning a presentation to the Committee, should contact Thomas V. Pilla, Civil Rights Analyst of the Western Regional Office, (213) 894-3437 (TDD 213 894-3435). Hearing-impaired persons who will attend the meeting and require the services of a sign language interpreter should contact the Western Regional Office at least ten (10) working days before the scheduled date of the meeting.

The meeting will be conducted pursuant to the provisions of the rules and regulations of the Commission. It was not possible to publish this notice 15 days in advance of the meeting date because of internal processing delays.

Dated at Washington, DC, April 20, 2006.
Ivy L. Davis,
Acting, Chief Regional Programs Coordinator.

[FR Doc. E6-6292 Filed 4-25-06; 8:45 am]

BILLING CODE 6335-01-P